DEPARTMENT OF AGRICULTURE

Animal and Plant Health Inspection Service

7 CFR Parts 360 and 361

[Docket No. APHIS-2006-0019]

Noxious Weeds; South African Ragwort and Madagascar Ragwort

AGENCY: Animal and Plant Health Inspection Service, USDA.

ACTION: Affirmation of interim rule as final rule.

SUMMARY: We are adopting as a final rule, without change, an interim rule that amended the noxious weed and imported seed regulations by adding South African ragwort (Senecio inaequidens DC.) and Madagascar ragwort (Senecio madagascariensis Poir.) to the list of terrestrial noxious weeds and to the list of seeds with no tolerances applicable to their introduction. That action was necessary to prevent the artificial spread of these noxious weeds into the United States.

DATES: Effective on October 5, 2006, we are adopting as a final rule the interim rule published at 71 FR 35378-35381, June 20, 2006.

FOR FURTHER INFORMATION CONTACT: Dr. Alan V. Tasker, Noxious Weeds Program Coordinator, Invasive Species and Pest Management, PPQ, APHIS, 4700 River Road Unit 134, Riverdale, MD 20737-1237; (301) 734-5225.

SUPPLEMENTARY INFORMATION:

Background

The Plant Protection Act (7 U.S.C. 7701 et seq.) authorizes the Secretary of Agriculture to prohibit or restrict the importation, entry, exportation, or movement in interstate commerce of any plant, plant product, biological control organism, noxious weed, article, or means of conveyance if the Secretary determines that the prohibition or restriction is necessary to prevent the introduction of a plant pest or noxious weed into the United States or the dissemination of a plant pest or noxious weed within the United States.

In an interim rule ¹ effective June 14, 2006, and published in the Federal Register on June 20, 2006 (71 FR 35378-35381, Docket No. APHIS-2006-0019), we amended the noxious weed and imported seed regulations by adding South African ragwort (Senecio inaequidens DC.) and Madagascar ragwort (Senecio madagascariensis Poir.) to the list in § 360.200(c) of terrestrial noxious weeds and to the list in § 361.6(a)(1) of seeds with no tolerances applicable to their introduction. That action was necessary to prevent the artificial spread of South African ragwort and Madagascar ragwort into the United States.

¹ To view the interim rule, go to http://www.regulations.gov, click on the “Advanced Search” tab, and select “Docket Search.” In the Docket ID field, enter APHIS-2006-0019, then click on “Submit.” Clicking on the Docket ID link in the search results page will produce a list of all documents in the docket.

Comments on the interim rule were required to be received on or before August 21, 2006. We did not receive any comments. Therefore, for the reasons given in the interim rule, we are adopting the interim rule as a final rule.

This action also affirms the information contained in the interim rule concerning Executive Order 12866 and the Regulatory Flexibility Act, Executive Order 12988, and the Paperwork Reduction Act.

Further, for this action, the Office of Management and Budget has waived its review under Executive Order 12866.

List of Subjects

7 CFR Part 360

Imports, Plants (Agriculture), Quarantine, Reporting and recordkeeping requirements, Transportation, Weeds.

7 CFR Part 361

Agricultural commodities, Imports, Labeling, Quarantine, Reporting and recordkeeping requirements, Seeds, Vegetables, Weeds.

PART 360—NOXIOUS WEED REGULATIONS

PART 361—IMPORTATION OF SEED AND SCREENINGS UNDER THE FEDERAL SEED ACT

Accordingly, we are adopting as a final rule, without change, the interim rule that amended 7 CFR parts 360 and 361 and that was published at 71 FR 35378-35381 on June 20, 2006.

Done in Washington, DC, this 29th day of September 2006.
Kevin Shea,
Acting Administrator, Animal and Plant Health Inspection Service.

[FR Doc. E6-16462 Filed 10-4-06; 8:45 am]

BILLING CODE 3410-34-P